DEPARTMENT OF ENERGY

Federal Energy Regulatory Commission

[Docket No. ER01-1071-001]

Badger Windpower, LLC; Notice of Filing

March 7, 2001.

Take notice that on March 2, 2001, Badger Windpower, LLC (Badger) tendered for filing an amendment to its application in the above-captioned docket. The amendment consists of a redesignated Renewable Power Purchase Agreement in accordance with Order No. 614.

Copies of this filing have been served on the Public Service Commission of Wisconsin, Florida Public Service Commission, Arkansas Public Service Commission, Mississippi Public Service Commission, Louisiana Public Service Commission, Texas Public Utility Commission, and the Council of the City of New Orleans.

Any person desiring to be heard or to protest such filing should file a motion to intervene or protests with the Federal Energy Regulatory Commission, 888 First Street, NE., Washington, DC 20426, in accordance with Rules 211 and 214 of the Commission's Rules of Practice and Procedure (18 CFR 385.211 and 385.214). All such motions and protests should be filed on or before March 19, 2001. Protests will be considered by the Commission to determine the appropriate action to be taken, but will not serve to make protestants parties to the proceedings. Any person wishing to become a party must file a motion to intervene. Copies of this filing are on file with the Commission and are available for public inspection. This filing may also be viewed on the Internet at http://www.ferc.fed.us/online/rims.htm (call 202-208-2222 for assistance). Comments and protests may be filed electronically via the internet in lieu of paper. See, 18 CFR 385.2001(a)(1)(iii) and the instructions on the Commission's web site at http://www.ferc.fed.us/efi/doorbell.htm.

David P. Boergers,
Secretary.

[FR Doc. 01-6151 Filed 3-12-01; 8:45 am]

BILLING CODE 6717-01-M